DEPARTMENT OF ENERGY

Federal Energy Regulatory Commission

[Docket No. ER99-896-000, et al.]

California Independent System Operator Corporation, et al.; Electric Rate and Corporate Regulation Filings

September 11, 2000.

Take notice that the following filings have been made with the Commission:

1. California Independent System Operator Corporation

[Docket Nos. ER99-896-000; ER99-1971-000; ER00-2383-000]

Take notice that on September 5, 2000, the California Independent System Operator Corporation (ISO) tendered for filing a Notice of Implementation, posted on the ISO Home page and sent to all Market Participants on August 1, 2000, which specifies that, effective September 10, 2000, the ISO will implement non-payment for noninstructed deviations from awarded Ancillary Services capacity (the No-Pay rule).

The ISO states that this filing has been served on all parties listed on the official service lists in the above-referenced dockets.

Comment date: September 26, 2000, in accordance with Standard Paragraph E at the end of this notice.

2. Indianapolis Power & Light Company

[Docket No. ER00-1026-004]

Take notice that on September 7, 2000, Indianapolis Power & Light Company (IPL) filed a notification of its election to report changes in status every three years in compliance with the Commission's February 24 order in this proceeding. IPL also informed the Commission of AES Corporation's planned acquisition of IPALCO Enterprises, Inc., the parent of Indianapolis Power & Light Company.

Comment date: September 28, 2000, in accordance with Standard Paragraph E at the end of this notice.

3. FPL Energy Cape, LLC

[Docket No. ER00-3068-001]

Take notice that on September 5, 2000, pursuant to the Commission's Order dated August 4, 2000, FPL Energy Cape, LLC, 100 Middle Street, Portland, Maine 04101, tendered for filing with the Federal Energy Regulatory Commission an amendment to its application to sell wholesale power at market-based rates pursuant to Section 205 of the Federal Power Act.

Copies of this filing have been served upon all parties listed on the official service list maintained by the Secretary of the Commission for these proceedings.

Comment date: September 26, 2000, in accordance with Standard Paragraph E at the end of this notice.

4. Western Resources, Inc.

[Docket No. ER00-3445-001]

Take notice that on September 5, 2000, Western Resources, Inc. (WR) submitted for filing an amendment to its August 18, 2000 filing in this proceeding. The amendment includes an Order No. 614 compliant version of the First Amendment to the Electric Power Supply Agreement between WR and the City of Toronto, Kansas.

Copies of the filing were served upon the City of Toronto, Kansas and the Kansas Corporation Commission.

Comment date: September 26, 2000, in accordance with Standard Paragraph E at the end of this notice.

5. LSP Energy Limited Partnership

[Docket No. ER00-3539-001]

Take notice that on September 7, 2000, LSP Energy Limited Partnership (LSP Energy) tendered for filing under Section 205 of the Federal Power Act an executed amendment to a long-term electric service agreement between LSP Energy and Virginia Electric and Power Company.

LSP Energy requests an effective date of August 9, 2000 for such amendment.

Comment date: September 28, 2000, in accordance with Standard Paragraph E at the end of this notice.

6. Illinois Power Company

[Docket No. ER00-3592-000]

Take notice that on September 5, 2000, Illinois Power Company tendered for filing a fully executed Network Integration Transmission Service Agreement and a fully executed Network Operating Agreement (collectively, the Agreements) between Archer-Daniels-Midland Company and Illinois Power Company pursuant to section 35.12 of the Commission's Regulations, 18 CFR 35.12. Under the Agreements, Illinois Power may provide network services to Archer-Daniels-Midland Company in accordance with Illinois Power's FERC Electric Tariff.

Illinois Power has requested that the Commission accept the fully executed Agreements and that the Agreements become effective as of August 3, 2000.

Illinois Power has served a copy of this filing upon the Illinois Commerce Commission and Archer-Daniels-Midland Company.

Comment date: September 26, 2000, in accordance with Standard Paragraph E at the end of this notice.

7. Virginia Electric and Power Company

[Docket No. ER00-3593-000]

Take notice that on September 5, 2000, Virginia Electric and Power Company (Virginia Power) filed revisions to its open access transmission tariff, FERC Electric Tariff, Second Revised Volume No. 5 (Tariff) to make it consistent with the uniform business practices that the FERC directed all transmission providers to adopt pursuant to Order No. 638.

The filing has been served on Virginia Power's customers under the Tariff, the Virginia State Corporation Commission and the North Carolina Utilities Commission.

Comment date: September 26, 2000, in accordance with Standard Paragraph E at the end of this notice.

8. American Transmission Systems, Inc.

[Docket No. ER00-3594-000]

Take notice that on September 5, 2000, American Transmission Systems, Inc. tendered for filing a new attachment to its Open Access Transmission Tariff (FERC Electric Tariff, Original Volume No. 1). The new attachment provides for a waiver of transmission charges in defined circumstances.

Copies of the filing were served upon the company's jurisdictional customers and affected state commissions.

Comment date: September 26, 2000, in accordance with Standard Paragraph E at the end of this notice.

9. Oklahoma Gas and Electric Company

[Docket No. ER00-3595-000]

Take notice that on September 5, 2000, Oklahoma Gas and Electric Company (OG&E), tendered for filing, an Interconnection Agreement with Duke Energy McClain, LLC (Duke Energy). The Interconnection Agreement provides for interconnection of the Duke Energy facility to the OG&E transmission system at the rates, terms, charges, and conditions set forth therein. OG&E is requesting that the Interconnection Agreement becomes effective as of August 28, 2000 and is also requesting waiver of the Commission's Notice requirements.

Copies of this filing have been served upon the Oklahoma Corporation Commission, the Arkansas Public Service Commission and on Duke Energy .

Comment date: September 26, 2000, in accordance with Standard Paragraph E at the end of this notice.

10. American Electric Power Service Corporation

[Docket No. ER00-3596-000]

Take notice that on September 5, 2000, the American Electric Power Service Corporation (AEPSC) tendered for filing blanket service agreements by the AEP Companies under the Wholesale Market Tariff of the AEP Operating Companies (Power Sales Tariff).

AEPSC respectfully requests waiver of notice to permit the service agreements to be made effective as of August 7, 2000.

A copy of the filing was served upon the Parties and the State Utility Regulatory Commissions of Indiana, Kentucky, Michigan, Ohio, Tennessee, Virginia and West Virginia.

Comment date: September 26, 2000, in accordance with Standard Paragraph E at the end of this notice.

11. Duke Power, a division of Duke Energy Corporation

[Docket No. ER00-3597-000]

Take notice that on September 5, 2000, Duke Power (Duke), a division of Duke Energy Corporation, tendered for filing a Service Agreement with Alcoa Power Generating, Inc. for power sales at market-based rates.

Duke requests that the proposed Service Agreement be permitted to become effective on August 29, 2000.

Duke states that this filing is in accordance with Part 35 of the Commission's Regulations and a copy has been served on the North Carolina Utilities Commission.

Comment date: September 26, 2000, in accordance with Standard Paragraph E at the end of this notice.

12. PacifiCorp

[Docket No. ER00-3599-000]

Take notice that PacifiCorp on September 7, 2000, tendered for filing in accordance with 18 CFR Part 35 of the Commission's Rules and Regulations, a Revision to Exhibit C to the General Transfer Agreement between PacifiCorp and the Bonneville Power Administration (Bonneville).

Copies of this filing were supplied to the Washington Utilities and Transportation Commission and the Public Utility Commission of Oregon.

Comment date: September 28, 2000, in accordance with Standard Paragraph E at the end of this notice.

13. Arizona Public Service Company

[Docket No. ER00-3600-000]

Take notice that on September 7, 2000, Arizona Public Service Company tendered for filing Service Agreements under the Western Systems Power Pool Agreement for service to Bonneville Power Administration, Enron Power Marketing, Inc., and TransAlta Energy Marketing.

A copy of this filing has been served on the Arizona Corporation Commission Bonneville Power Administration, Enron Power Marketing, Inc., and TransAlta Energy Marketing.

Comment date: September 28, 2000, in accordance with Standard Paragraph E at the end of this notice.

14. The Dayton Power and Light Company

[Docket No. ER00-3601-000]

Take notice that on September 7, 2000 The Dayton Power and Light Company (Dayton) submitted service agreements establishing The Legacy Energy Group, LLC, MidAmerican Energy Company, Tennessee Valley Authority as customers under the terms of Dayton's Open Access Transmission Tariff.

Copies of this filing were served upon establishing The Legacy Energy Group, LLC, MidAmerican Energy Company, Tennessee Valley Authority and the Public Utilities Commission of Ohio.

Comment date: September 28, 2000, in accordance with Standard Paragraph E at the end of this notice.

15. The Dayton Power and Light Company

[Docket No. ER00-3602-000]

Take notice that on September 7, 2000 The Dayton Power and Light Company (Dayton) submitted service agreements establishing with The Legacy Energy Group, LLC, MidAmerican Energy Company, Tennessee Valley Authority as customers under the terms of Dayton's Open Access Transmission Tariff.

Copies of this filing were served upon with The Legacy Energy Group, LLC, MidAmerican Energy Company, Tennessee Valley Authority and the Public Utilities Commission of Ohio.

Comment date: September 28, 2000, in accordance with Standard Paragraph E at the end of this notice.

16. Wisconsin Public Service Corporation

[Docket No. ER00-3603-000]

Take notice that on September 7, 2000, Wisconsin Public Service Corporation (WPSC) tendered for filing an executed service agreement with New Energy Ventures, Inc. under its Market-Based Rate Tariff, FERC Electric Tariff Volume No. 10.

WPSC requests that the service agreement become effective on August 29, 2000.

Comment date: September 28, 2000, in accordance with Standard Paragraph E at the end of this notice.

17. Georgia-Pacific Corporation

[Docket No. ER00-3604-000]

Take notice that on September 7, 2000, Georgia-Pacific Corporation (G-P) tendered for filing G-P Rate Schedule FERC No. 1, under which G-P proposes to engage in wholesale electric power and energy transactions as a marketer, including the making of sales of electric energy, capacity, and certain ancillary services at market-based rates. G-P further requested that the Commission grant waivers of certain of its regulations and blanket authorizations as set forth more fully therein.

G-P further requested that the Commission waive its sixty-day notice requirement to permit G-P Rate Schedule FERC No. 1 to become effective by October 18, 2000.

Comment date: September 28, 2000, in accordance with Standard Paragraph E at the end of this notice.

18. Arizona Public Service Company

[Docket No. ER00-3605-000]

Take notice that on September 7, 2000, Arizona Public Service Company (APS) tendered for filing umbrella Service Agreements to provide Short-Term Firm and Non-Firm Point-to-Point Transmission Service to FPL Energy Power Marketing, Inc. under APS' Open Access Transmission Tariff.

A copy of this filing has been served on FPL Energy Power Marketing, Inc., and the Arizona Corporation Commission.

Comment date: September 28, 2000, in accordance with Standard Paragraph E at the end of this notice.

19. Carolina Power & Light Company

[Docket No. ER00-3606-000]

Take notice that on September 7, 2000, Carolina Power & Light Company (CP&L) tendered for filing a Service Agreement for Short-Term Firm Point-to-Point Transmission Service and a Service Agreement for Non-Firm Point-to-Point Transmission Service with Louisville Gas and Electric Company/Kentucky Utilities Company. Service to this Eligible Customer will be in accordance with the terms and conditions of Carolina Power & Light Company's Open Access Transmission Tariff.

CP&L is requesting an effective date of August 15, 2000 for each Agreement.

Copies of the filing were served upon the North Carolina Utilities Commission and the South Carolina Public Service Commission.

Comment date: September 28, 2000, in accordance with Standard Paragraph E at the end of this notice.

20. Carolina Power & Light Company

[Docket No. ER00-3607-000]

Take notice that on September 7, 2000, Carolina Power & Light Company (CP&L) tendered for filing a Service Agreement for Short-Term Firm Point-to-Point Transmission Service with Dayton Power and Light Company. Service to this Eligible Customer will be in accordance with the terms and conditions of Carolina Power & Light Company's Open Access Transmission Tariff.

CP&L is requesting an effective date of August 15, 2000 for this Agreement.

Copies of the filing were served upon the North Carolina Utilities Commission and the South Carolina Public Service Commission.

Comment date: September 28, 2000, in accordance with Standard Paragraph E at the end of this notice.

21. BP Energy Company

[Docket No. ER00-3614-000]

Take notice that on September 7, 2000, BP Energy Company (BP) submitted a Notice of Succession pursuant to Section 35.16 of the Commission's Regulations, 18 CFR 35.16. As a result of a name change, BP is succeeding to the FERC Electric Rate Schedule No. 1 of Amoco Energy Trading Corporation, effective August 22, 2000.

Comment date: September 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-23841 Filed 9-15-00; 8:45 am]

BILLING CODE 6717-01-P